DEPARTMENT OF HOMELAND SECURITY

Federal Emergency Management Agency

[Docket ID FEMA-2021-0002; Internal Agency Docket No. FEMA-B-2183]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Goodyear (21-09-0561P). | The Honorable Georgia Lord, Mayor, City of Goodyear, 190 North Litchfield Road, Goodyear, AZ 85338. | Engineering and Development Services, 14455 West Van Buren Street, Suite D101, Goodyear, AZ 85338. | https://msc.fema.gov/portal/advanceSearch. | Feb. 4, 2022 | 040046
Maricopa | City of Goodyear, (21-09-0613P). | The Honorable Georgia Lord, Mayor, City of Goodyear, 190 North Litchfield Road, Goodyear, AZ 85338. | Engineering and Development Services, 14455 West Van Buren Street, Suite D101, Goodyear, AZ 85338. | https://msc.fema.gov/portal/advanceSearch. | Feb. 11, 2022 | 040046
Yavapai | Unincorporated Areas of Yavapai County, (21-09-1317P). | The Honorable Craig L. Brown, Chairman, Board of Supervisors, Yavapai County, 1015 Fair Street, 3rd Floor, Prescott, AZ 86305. | Yavapai County Flood Control District, 1120 Commerce Drive, Prescott, AZ 86305. | https://msc.fema.gov/portal/advanceSearch. | Feb. 25, 2022 | 040093
California:
Alameda | Unincorporated Areas of Alameda County, (21-09-0655P). | The Honorable Keith Carson, President, Board of Supervisors, Alameda County, 1221 Oak Street, Suite 536, Oakland, CA 94612. | Alameda County Public Works Agency, 399 Elmhurst Street, Hayward, CA 94544. | https://msc.fema.gov/portal/advanceSearch. | Feb. 9, 2022 | 060001
Riverside. | City of Desert Hot Springs, (21-09-1431P). | The Honorable Scott Matas, Mayor, City of Desert Hot Springs, 11-999 Palm Drive, Desert Hot Springs, CA 92240. | Planning Department, 65-95 Pierson Boulevard, Desert Hot Springs, CA 92240. | https://msc.fema.gov/portal/advanceSearch. | Feb. 18, 2022 | 060251
Riverside | Unincorporated Areas of Riverside County, (21-09-1431P). | The Honorable Karen Spiegel, Chair, Board of Supervisors, Riverside County, 4080 Lemon Street, 5th Floor, Riverside, CA 92501. | Riverside County Flood Control and Water Conservation District, 1995 Market Street, Riverside, CA 92501. | https://msc.fema.gov/portal/advanceSearch. | Feb. 18, 2022 | 060245
Florida: St. Johns | Unincorporated Areas of St. Johns County, (21-04-2134P). | Mr. Jeremiah Ray Blocker, Chair, St. Johns County Board of County Commissioners, 500 San Sabastian View, St. Augustine, FL 32084. | St. Johns County Permit Center, 4040 Lewis Speedway, St. Augustine, FL 32084. | https://msc.fema.gov/portal/advanceSearch. | Mar. 1, 2022 | 125147
Idaho:
Bannock | City of Pocatello, (21-10-0641P). | The Honorable Brian Blad, Mayor, City of Pocatello, P.O. Box 4169, Pocatello, ID 83205. | City Hall, 911 North 7th Avenue, Pocatello, ID 83201. | https://msc.fema.gov/portal/advanceSearch. | Feb. 21, 2022 | 160012
Bannock | City of Pocatello, (21-10-0870P). | The Honorable Brian Blad, Mayor, City of Pocatello, P.O. Box 4169, Pocatello, ID 83205. | City Hall, 911 North 7th Avenue, Pocatello, ID 83201. | https://msc.fema.gov/portal/advanceSearch. | Mar. 2, 2022 | 160012
Camas | City of Fairfield, (21-10-0381P). | The Honorable Terry Lee, Mayor, City of Fairfield, P.O. Box 336, Fairfield, ID 83327. | City Hall, 407 Soldier Road, Fairfield, ID 83327. | https://msc.fema.gov/portal/advanceSearch. | Feb. 3, 2022 | 160035
Illinois:
Cook and DuPage | City of Chicago, (21-05-1469P). | The Honorable Lori Lightfoot, Mayor, City of Chicago, 121 North LaSalle Street Room 406, Chicago, IL 60602. | Department of Buildings, Stormwater Management, 121 North LaSalle Street, Room 906, Chicago, IL 60602. | https://msc.fema.gov/portal/advanceSearch. | Feb. 4, 2022 | 170074
Cook | Unincorporated Areas of Cook County, (21-05-1469P). | The Honorable Toni Preckwinkle, President, Cook County Board, 118 North Clark Street Room 537, Chicago, IL 60602. | Cook County Building and Zoning Department, 69 West Washington, 28th Floor, Chicago, IL 60602. | https://msc.fema.gov/portal/advanceSearch. | Feb. 4, 2022 | 170054
Cook | Village of Franklin Park, (21-05-1469P). | The Honorable Barrett F. Pedersen, Village President, Village of Franklin Park, 9500 Belmont Avenue, Franklin Park, IL 60131. | Village Hall, 9500 Belmont Avenue, Franklin Park, IL 60131. | https://msc.fema.gov/portal/advanceSearch. | Feb. 4, 2022 | 170094
DuPage | City of Naperville, (19-05-1619P). | The Honorable Steve Chirico, Mayor, City of Naperville, Municipal Center, 400 South Eagle Street, Naperville, IL 60540. | Municipal Center, 400 South Eagle Street, Naperville, IL 60540. | https://msc.fema.gov/portal/advanceSearch. | Feb. 22, 2022 | 170213
Will | Village of Bolingbrook (22-05-0060P). | The Honorable Mary Alexander-Basta, Mayor, Village of Bolingbrook, 375 West Briarcliff Road, Bolingbrook, IL 60440. | Village Hall, 375 West Briarcliff Road, Bolingbrook, IL 60440. | https://msc.fema.gov/port, al/advanceSearch. | Feb. 25, 2022 | 170812
Winnebago | City of Rockford, (21-05-1319P). | The Honorable Thomas P. McNamara, Mayor, City of Rockford, 425 East State Street, 8th Floor, Rockford, IL 61104. | City Hall, 425 East State Street, Rockford, IL 61104. | https://msc.fema.gov/portal/advanceSearch. | Jan. 27, 2022 | 170723
Winnebago. | Unincorporated Areas of Winnebago County, (21-05-1319P). | The Honorable Joseph V. Chiarelli, Chairman, Winnebago County Board, Administration Building, 404 Elm Street, Room 533, Rockford, IL 61101. | Winnebago County Administration Building, 404 Elm Street, Rockford, IL 61101. | https://msc.fema.gov/portal/advanceSearch. | Jan. 27, 2022 | 170720
Indiana:
Hendricks | Town of Avon, (21-05-1602P). | Ms. Dawn Lowden, Town of Avon Council President, 6570 East US Highway 36, Avon, IN 46123. | Town Hall, 6570 East US Highway 36, Avon, IN 46123. | https://msc.fema.gov/portal/advanceSearch. | Feb. 11, 2022 | 180520
Hendricks | Unincorporated Areas of Hendricks County, (21-05-1602P). | Ms. Phyllis Palmer, Hendricks County Commissioner, 355 South Washington Street, Danville, IN 46122. | Hendricks County Government Center, 355 South Washington Street, Danville, IN 46122. | https://msc.fema.gov/portal/advanceSearch. | Feb. 11, 2022 | 180415
Michigan:
Macomb | Charter Township of Clinton, (21-05-2624P). | Mr. Robert J. Cannon, Township Supervisor, Charter Township of Clinton, 40700 Romeo Plank Road, Clinton, MI 48038. | Civic Center, 40700 Romeo Plank Road, Clinton, MI 48038. | https://msc.fema.gov/portal/advanceSearch. | Feb. 2, 2022 | 260121
Michigan:
Oakland | City of Troy, (21-05-3248P). | The Honorable Ethan Baker, Mayor, City of Troy, City Hall, 500 West Big Beaver Road, Troy, MI 48084. | City Hall, 500 West Big Beaver Road, Troy, MI 48084. | https://msc.fema.gov/portal/advanceSearch. | Jan. 21, 2022 | 260180
Missouri: Boone | City of Columbia, (21-07-0218P). | The Honorable Brian Treece, Mayor, City of Columbia, P.O. Box 6015, Columbia, MO 65205. | City Hall, 701 East Broadway, Columbia, MO 65205. | https://msc.fema.gov/portal/advanceSearch. | Jan. 31, 2022 | 290036
Texas: Rockwall | City of Rockwall, (21-06-1013P). | The Honorable Kevin Fowler, Mayor, City of Rockwall City Hall, 385 South Goliad Street, Rockwall, TX 75087. | City Hall, 385 South Goliad Street, Rockwall, TX 75087. | https://msc.fema.gov/portal/advanceSearch. | Feb. 7, 2022 | 480547
Washington: Snohomish. | Unincorporated Areas of Snohomish County, (21-10-1427X). | Mr. Dave Somers, Snohomish County Executive, 3000 Rockefeller Avenue, M/S 407, Everett, WA 98201. | Planning and Development Services, 3000 Rockefeller Avenue, Everett, WA 98201. | https://msc.fema.gov/portal/advanceSearch. | Mar. 3, 2022 | 535534
Wisconsin:
La Crosse | City of La Crosse, (21-05-4567X). | The Honorable Mitch Reynolds, Mayor, City of La Crosse, City Hall, 400 La Crosse Street, La Crosse, WI 54601. | City Hall, 400 La Crosse Street, La Crosse, WI 54601. | https://msc.fema.gov/portal/advanceSearch. | Mar. 2, 2022 | 555562
La Crosse | Unincorporated Areas of La Crosse County, (21-05-4567X). | Ms. Monica Kruse, Chair, Board of Supervisors, La Crosse County, Administrative Center, 212 6th Street North, La Crosse, WI 54601. | La Crosse County Administration Center, 400 4th Street North, Room 3260, La Crosse, WI 54601. | https://msc.fema.gov/portal/advanceSearch. | Mar. 2, 2022 | 550217
Outagamie | City of New London, (21-05-1313P). | The Honorable Mark Herter, Mayor, City of New London, 215 North Shawano Street, New London, WI 54961. | City Hall, 215 North Shawano Street, New London, WI 54961. | https://msc.fema.gov/portal/advanceSearch. | Mar. 4, 2022 | 550308

[FR Doc. 2021-25904 Filed 11-26-21; 8:45 am]

BILLING CODE 9110-12-P